DEPARTMENT OF THE INTERIOR

Fish and Wildlife Service

Texas Chenier Plain National Wildlife Refuge Complex, Chambers, Jefferson, and Galveston Counties, TX, Consisting of Moody National Wildlife Refuge, Anahuac National Wildlife Refuge, McFaddin National Wildlife Refuge, and Texas Point National Wildlife Refuge

AGENCY: Fish and Wildlife Service, Interior.

ACTION: Notice of availability: Final environmental impact statement, comprehensive conservation plan, and land protection plan.

SUMMARY: We, the U.S. Fish and Wildlife Service (Service), announce the availability of our Final Environmental Impact Statement (EIS), Final Comprehensive Conservation Plan (CCP), and Final Land Protection Plan (LPP) for the Texas Chenier Plain National Wildlife Refuge (NWR) Complex. In this final EIS/CCP/LPP, we describe how we will manage this Refuge Complex for the next 15 years and expand the refuge boundaries for each of the four refuges within the Refuge Complex.

DATES: We will sign a record of decision (ROD) no sooner than 30 days after publication of this notice.

ADDRESSES: You may view or obtain copies of the final EIS, CCP, and LPP by any of the following methods:

• Agency Web Site: Download a copy of the document at http://www.fws.gov/southwest/refuges/Plan/docs/LINKS.pdf.

• Mail: Doug St. Pierre, Division of Planning, P.O. Box 1306, Albuquerque, NM 87103.

• In-Person Viewing or Pickup: Call 409-267-3337 to make an appointment during regular business hours at Texas Chenier Plain NWR Complex Headquarters, 509 Washington Street, Anahuac, TX.

• Local Libraries: The final document is also available at the Public Libraries located in the project area of Chambers and Jefferson Counties, TX.

FOR FURTHER INFORMATION CONTACT: Doug St. Pierre, 505-248-6636 (phone); mail to: doug_stpierre@fws.gov (e-mail).

SUPPLEMENTARY INFORMATION:

Introduction

With this notice, we complete the CCP process, except for the ROD, for Texas Chenier Plain NWR Complex begun in our October 21, 1999, Federal Register notice (64 FR 56800). For more about the process, see that notice. We released the draft EIS/CCP/LPP to the public, announcing it and requesting comments in a notice of availability in the Federal Register (71 FR 61063; October 17, 2006).

The Texas Chenier Plain Refuge Complex is located along the upper Texas Gulf Coast between Houston, TX, and the Louisiana border. This coastal ecosystem includes important freshwater, estuarine marshes, tallgrass prairie with small depressional wetlands, and coastal woodlots. These habitats are an important part of the primary wintering area for Central Flyway ducks and geese, and, additionally, are critical staging areas for neotropical landbirds migrating to and from Central and South America.

With this notice, we announce our decision and the availability of the final EIS/CCP/LPP for Texas Chenier Plain NWR Complex in accordance with National Environmental Policy Act (NEPA) (40 CFR 1506.6(b)) requirements. We completed a thorough analysis of the environmental, social, and economic considerations, which we included in the final EIS/CCP/LPP.

The CCP will guide us in managing and administering Moody, Anahuac, McFaddin, and Texas Point Refuges for the 15 years following publication of the final CCP. Refuge Management Alternative D, as we described in the final EIS, is the foundation for the CCP.

Background

The CCP Process

The National Wildlife Refuge System Improvement Act of 1997 (16 U.S.C. 668dd-668ee), which amended the National Wildlife Refuge System Administration Act of 1966 (NWRSAA), requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the NWRSAA, as amended, and NEPA.

Comments

We solicited comments on the draft EIS/CCP/LPP for Texas Chenier Plain NWR Complex from October 17, 2006, to January 16, 2007 (71 FR 61063). We received 18 written comments by mail or e-mail, in addition to the 5 comments we recorded at the Service's two public hearings held on November 28 and 30, 2006, in Port Arthur and Hankamer, TX. In Chapter 6 of the final EIS/CCP/LPP, we documented and responded to all of the substantive comments received and noted editorial changes to the final document in response to these comments where appropriate. All of the comments received were considered in the decision-making process to select the two preferred alternatives.

Our Preferred Alternatives

After considering the comments we received, we have chosen two Preferred Alternatives, one from each of the two separate sets of Alternatives analyzed and considered.

Preferred Refuge Management Alternative D—Emphasis on an integrated management approach combining: (1) Expanded habitat management and restoration programs, (2) New research and wildlife population monitoring, and (3) Increased efforts to address major threats to the ecosystem.

Preferred Refuge Boundary Expansion Alternative C—a 7,920 acre expansion of the Moody NWR boundary, a 47,750 acre expansion of the Anahuac NWR boundary, a 7,190 acre expansion of the McFaddin NWR boundary, and a 1,400 acre expansion of the Texas Point NWR boundary.

Dated: June 24, 2008.
Christopher Todd Jones,
Acting Regional Director, U.S. Fish and Wildlife Service, Albuquerque, New Mexico.

[FR Doc. E8-14741 Filed 6-27-08; 8:45 am]

BILLING CODE 4310-55-P